DEPARTMENT OF COMMERCE

National Oceanic and Atmospheric Administration

Proposed Information Collection; Comment Request; National Estuaries Restoration Inventory

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 31, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Perry Gayaldo, (301) 713-0174 or Perry.Gayaldo@noaa.gov.

SUPPLEMENTARY INFORMATION:

I. Abstract

Collection of estuary habitat restoration project information (e.g., location, habitat type, goals, status, monitoring information) is in process in order to continue to populate a restoration project database mandated by the Estuary Restoration Act (ERA) of 2000. The National Estuaries Restoration Inventory (NERI) contains information for estuary habitat restoration projects funded through the ERA as well as non-ERA project data that meet quality control requirements and data standards established under the Act. The database provides information to improve restoration methods, provides the basis for required reports to Congress, and tracks estuary habitat acreage restored. It is accessible to the public via the Internet for data queries and project reports. Recipients of ERA funds are required to submit specific information on habitat restoration projects into the NERI database through an interactive Web site available over the Internet (https://neri.noaa.gov/). The projects that are not funded through the ERA can be voluntarily entered into the database by project managers. Other Federal agencies and private grant programs may also require recipients to enter project information in the NERI database.

II. Method of Collection

Project managers will electronically submit estuary restoration project information via NOAA's National Estuaries Restoration Inventory (NERI) Web site. The Web site contains a user-friendly data entry interface for project managers to enter and submit project information to the NERI database. To facilitate the collection of information through the data entry interface, NOAA's National Marine Fisheries Service (NMFS) provides worksheets containing database fields that can be downloaded and printed from the Web site. These worksheets can be used by project managers to guide information collection, and can then serve as a reference as project managers enter project information through the Web site. The reporting forms are also available in paper format to be sent to project managers as necessary.

III. Data

OMB Control Number: 0648-0479.

Form Number: None.

Type of Review: Regular submission.

Affected Public: Not-for-profit institutions; State, local, and tribal governments; and businesses or other for-profit organizations.

Estimated Number of Respondents: 115.

Estimated Time per Response: Four hours for new projects submitted, with an estimated 70 new projects to be submitted annually. This includes approximately three hours for collecting project information and writing the project abstract and one hour for entering information into the database. For existing projects, two hours are expected for updates, with an estimated 50 projects to be updated annually. Information originally collected and submitted for a project does not need to be collected again to update the project.

Estimated Total Annual Burden Hours: 380 hours.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 27, 2009.
Gwellnar Banks,
Management Analyst, Office of the Chief Information Officer.

[FR Doc. E9-12641 Filed 5-29-09; 8:45 am]

BILLING CODE 3510-22-P